DEPARTMENT OF THE TREASURY

Office of Foreign Assets Control

Unblocking of Specially Designated Narcotics Traffickers Pursuant to Executive Order 12978

AGENCY: Office of Foreign Assets Control, Treasury.

ACTION: Notice.

SUMMARY: The Treasury Department's Office of Foreign Assets Control (“OFAC”) is publishing the names of three individuals whose property and interests in property have been unblocked pursuant to Executive Order 12978 of October 21, 1995, Blocking Assets and Prohibiting Transactions With Significant Narcotics Traffickers.

DATES: The unblocking and removal from the list of Specially Designated Narcotics Traffickers of the individuals identified in this notice whose property and interests in property were blocked pursuant to Executive Order 12978 of October 21, 1995, occurred on November 28, 2006.

FOR FURTHER INFORMATION CONTACT: Jennifer Houghton, Assistant Director, Designation Investigations, Office of Foreign Assets Control, Department of the Treasury, Washington, DC 20220, tel.: 202/622-2420.

SUPPLEMENTARY INFORMATION:

Electronic and Facsimile Availability

This document and additional information concerning OFAC are available on OFAC's Web site (http://www.treas.gov/ofac) or via facsimile through a 24-hour fax-on demand service, tel.: (202) 622-0077.

Background

On October 21, 1995, the President issued Executive Order 12978 (the “Order”) pursuant to the International Emergency Economic Powers Act (50 U.S.C. 1701-1706), the National Emergencies Act (50 U.S.C. 1601 et seq.), and section 301 of title 3, United States Code.

In the Order, the President declared a national emergency to address actions of significant foreign narcotics traffickers centered in Colombia, and the unparalleled violence, corruption, and harm that they cause in the United States and abroad. The Order imposes economic sanctions on foreign persons who are determined to play a significant role in international narcotics trafficking centered in Colombia; or materially to assist in, or provide financial or technological support for or goods or services in support of, the narcotics trafficking activities of persons designated in or pursuant to the order; or to be owned or controlled by, or to act for or on behalf of, persons designated in or pursuant to the Order.

The Order included 4 individuals in the Annex, which resulted in the blocking of all property or interests in property of these persons that was or thereafter came within the United States or the possession or control of U.S. persons. The Order authorizes the Secretary of the Treasury, in consultation with the Attorney General and the Secretary of State, to designate additional persons or entities determined to meet certain criteria set forth in EO 12978.

On November 28, 2006, the Director of OFAC removed from the list of Specially Designated Narcotics Traffickers the individuals listed below, whose property and interests in property were blocked pursuant to EO 12978.

The list of the unblocked individuals follows:

1. Avila Barbosa, Edilberto, c/o GAD S.A., La Union, Valle, Colombia; c/o Casa Grajales S.A., La Union, Valle, Colombia; c/o FREXCO S.A., La Union, Valle, Colombia; c/o International Freeze Dried S.A., Bogota, Colombia; DOB 28 Apr 1963; POB Bogota, Colombia; Cedula No. 79041212 (Colombia) (individual) [SDNT]

2. Forero Fernandez, Alberto Mario, c/o Happy Days S. de H., Barranquilla, Colombia; Cedula No. 8715143 (Colombia) (individual) [SDNT]

3. Zuniga Osorio, Marco Fidel, c/o Laboratorios Blanco Pharma, Bogota, Colombia; c/o Farmatodo S.A., Bogota, Colombia; DOB 15 Apr 1967; Cedula No. 72144581 (Colombia) (individual) [SDNT]

Dated: November 28, 2006.
Adam J. Szubin,
Director, Office of Foreign Assets Control.

[FR Doc. E6-20772 Filed 12-6-06; 8:45 am]

BILLING CODE 4811-42-P